FEDERAL COMMUNICATIONS COMMISSION

Notice of Public Information Collection Being Reviewed by the Federal Communications Commission for Extension Under Delegated Authority, Comments Requested

November 5, 2009.

SUMMARY: The Federal Communications Commission, as part of its continuing effort to reduce paperwork burden invites the general public and other Federal agencies to take this opportunity to comment on the following information collection(s), as required by the Paperwork Reduction Act of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comments on this information collection should submit comments on January 15, 2010. If you anticipate that you will be submitting comments, but find it difficult to do so within the period of time allowed by this notice, you should advise the contact listed below as soon as possible.

ADDRESSES: Direct all PRA comments to Nicholas A. Fraser, Office of Management and Budget (OMB), via fax at (202) 395-5167, or via the Internet at Nicholas_A._Fraser@omb.eop.gov and to Judith B. Herman, Federal Communications Commission (FCC). To submit your PRA comments by e-mail send then to: PRA@fcc.gov. To view a copy of this information collection request (ICR) submitted to OMB: (1) Go to web page: http://www.reginfo.gov/public/do/PRAMain, (2) look for the section of the web page called ”Currently Under Review”, (3) click on the downward-pointing arrow in the ”Select Agency” box below the ”Currently Under Review” heading, (4) select ”Federal Communications Commission” from the list of agencies presented in the ”Select Agency” box, (5) click the ”Submit” button to the right of the ”Select Agency” box, and (6) when the FCC list appears, look for the title of this ICR (or its OMB Control Number, if there is one) and then click on the ICR.

FOR FURTHER INFORMATION CONTACT: Judith B. Herman, OMD, 202-418-0214. For additional information about the information collection(s) send an e-mail to PRA@fcc.gov or contact Judith B. Herman, 202-418-0214.

SUPPLEMENTARY INFORMATION: OMB Control No: 3060-1128.

Title: National Broadband Plan Survey of Consumers.

Form No.: N/A.

Type of Review: Extension of a currently approved collection.

Respondents: Individuals or households; business or other for-profit.

Number of Respondents: 5,100 respondents; 5,100 responses.

Estimated Time Per Response: .33 hours.

Frequency of Response: On occasion reporting requirement.

Obligation to Respond: Voluntary. Statutory authority for this collection of information is contained in the Broadband Data Improvement Act of 2008, Pub. L. No. 110-385 and the American Reinvestment and Recovery Act of 2009, Pub. L. No. 111-5.

Total Annual Burden: 1,683 hours.

Privacy Act Impact Assessment: No personally identified information will be transmitted to the Commission from the survey contractor as a matter of vendor policy.

Nature and Extent of Confidentiality: There is no need for confidentiality.

Need and Uses: The Broadband Data Improvement Act of 2008, Pub. L. No. 110-385, Stat 4096 § 103(c)(1) directs the Commission to collect the information on the types of technology used to provide broadband to consumers, the price of such services, actual data transmission speeds, and the reasons for non-adoption of broadband service.

The Commission requested emergency OMB approval in October for this new information collection. The Commission received OMB approval on October 19, 2009. The Commission is now requesting an extension (no change in the reporting requirement) in order to obtain the full three year clearance from the OMB.

This collection of information will be accomplished through a national telephone survey of 5,000 consumers and face-to-face workshops with approximately 100 individuals throughout the United States. Consistent with one of the key reasons for this information collection, workshop participants will be non-adopters of broadband. The reason for holding these workshops is to elicit more in-depth responses from individuals to the questions being asked of non-adopters in the telephone survey. The workshops will add a narrative dimension to the reasons for non-adoption to the statistical information being collected in the telephone survey.

The Commission's Office of Strategic Planning (OSP) will use the information collected under this survey to help determine the extent of broadband Internet adoption, and use the data to inform policy recommendations under the National Broadband Plan. Information on consumers without broadband Internet at home will be used to carefully identify the nature and extent of the problem and used to develop policy recommendations through the National Broadband Plan which is due to congress by February 17, 2010.

Federal Communications Commission.
Marlene H. Dortch,
Secretary,
Office of the Secretary,
Office of Managing Director.

[FR Doc. E9-27370 Filed 11-13-09; 8:45 am]

BILLING CODE 6712-01-S